DEPARTMENT OF LABOR

Employment and Training Administration

[TA-W-75,131]

JLG Industries, Inc., Access Division, A Subsidiary of Oshkosh Corporation, Hagerstown, MD; Notice of Affirmative Determination Regarding Application for Reconsideration

By application dated April 8, 2011, by a petitioner requested administrative reconsideration of the negative determination regarding workers' eligibility to apply for Trade Adjustment Assistance (TAA) applicable to workers and former workers of JLG Industries, Inc., Access Division, a subsidiary of Oshkosh Corporation, Hagerstown, Maryland (subject firm). The determination was issued on March 9, 2011. The Department's Notice of Determination was published in the Federal Register on March 23, 2011 (76 FR 16450). The workers are engaged in activities related to the supply of design engineering, global procurement supply chain, and safety and reliability for the production of access equipment.

The negative determination was based on the findings that the subject firm worker group did not separate or threaten to separate a significant number or proportion of workers as required by Section 222 of the Trade Act of 1974, as amended. Further, the group eligibility requirements under Section 222(f) of the Act were not satisfied because the workers' firm has not been identified in an affirmative finding of injury by the U.S. International Trade Commission.

In the request for reconsideration, the petitioner stated that “Remaining employees were required to take a pay cut as well as a one week furlough without pay every three month * * * There were over 200 employees at the JLG Hagerstown, Maryland facilities who were affected by this and 100 percent of these employees were required to participate in the wage reduction and furlough lay-offs although the furlough lay-offs were scheduled at different times for different employees to maintain some semblance of a work force.”

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 14th day of April 2011.
Del Min Amy Chen,
Certifying Officer, Office of Trade Adjustment Assistance.

[FR Doc. 2011-9911 Filed 4-22-11; 8:45 am]

BILLING CODE 4510-FN-P